NUCLEAR REGULATORY COMMISSION

10 CFR Part 50

Public Workshop on Risk-Informed Regulation—Option 2

AGENCY: Nuclear Regulatory Commission.

ACTION: Notice of workshop.

SUMMARY: The Nuclear Regulatory Commission (NRC) will host a public workshop to provide an opportunity for discussion of the Nuclear Energy Institute's (NEI) guidance on special treatment requirements, advanced notice of proposed rulemaking, and possible alternative approaches to Option 2 in risk-informed regulations. The workshop is open to the public.

DATES: The workshop will be held on Thursday, April 27, 2000, from 9 a.m. to 5 p.m.

ADDRESSES: Ramada Inn Bethesda, Room Embassy III, 8400 Wisconsin Avenue, Bethesda, Maryland. The hotel's phone number is (301) 654-1000.

FOR FURTHER INFORMATION CONTACT: Egan Y. Wang, Office of Nuclear Reactor Regulation, U.S. Nuclear Regulatory Commission, Washington, DC 20555, telephone: (301) 415-1076, email eyw@nrc.gov.

SUPPLEMENTARY INFORMATION: The discussion topics are tentative and subject to change. Anyone interested in providing a presentation on these or other related topic(s), please contact Egan Wang at (301) 415-1076. This workshop will provide an opportunity to discuss topics related to Option 2 in risk-informed regulations.

Dated at Rockville, Maryland, this 11th day of March 2000.
For the Nuclear Regulatory Commission.
Cynthia A. Carpenter,
Chief, Generic Issues, Environmental, Financial and Rulemaking Branch, Division of Regulatory Improvement Programs, Office of Nuclear Reactor Regulation.

[FR Doc. 00-9467 Filed 4-14-00; 8:45 am]

BILLING CODE 7590-01-P